DEPARTMENT OF THE INTERIOR

Bureau of Land Management

[L19200000.AL0000.LRORB1518600.LLCAD06000.XXXL1109RM]

Notice of Temporary Closure on Public Lands in Riverside County, CA

AGENCY: Bureau of Land Management, Interior.

ACTION: Notice.

SUMMARY: Notice is hereby given that identified public lands administered by the Palm Springs-South Coast Field Office, Bureau of Land Management (BLM), are temporarily closed to all public entry.

DATES: This closure will be in effect beginning on December 24, 2015 and will remain in effect for 2 years unless rescinded or modified before that by the authorized officer or designated Federal officer.

FOR FURTHER INFORMATION CONTACT: John R. Kalish, Field Manager, 1201 Bird Center Drive, Palm Springs, CA 92262, (760) 833-7100. Persons who use a telecommunications device for the deaf (TDD) may call the Federal Information Relay Service (FIRS) at 1-800-877-8339 to contact the above individuals during normal business hours. The FIRS is available 24 hours a day, seven days a week, to leave a message or question with the above individuals. You will receive a reply during normal hours.

SUPPLEMENTARY INFORMATION: This closure affects public lands north of the Bradshaw Trail, a county-maintained roadway in Riverside County, California, but does not include the roadway itself. The legal description of the affected public lands is:

San Bernardino Meridian

T.7S., R.12E.,

Sec. 36, lots 3, 4, 6, and 7.

T.8S., R.12E.,

Sec. 5, lots 6 through 10, 14, 15, 24, and 25.

T.7S., R.13E.,

Sec. 21, lots 1, 2, and 4.

T.7S., R.14E.,

Sec. 19, lots 8, 9, 12, and 13;

Sec. 25, lots 1, 2, 5 through 8, 11, 12, and 13;

Sec. 27, lots 1, 2, 4, 5, 7, 8, 10, and 11, S½N½SE½, and S½N½SW¼;

Sec. 29, lots 1, 2, 4, 5, 8 through 11, 13, 14, 17, and 18, NW¼SE¼NE¼, and S½SE¼NE¼;

Sec. 33, lots 2 and 4.

T.7S., R.15E.,

Sec. 33, lots 4, 5, 7, 8, 23, 24, and 26, NW¼SE¼NW¼, and W½NW¼SW¼NW¼NW¼.

T.8S., R.15E.,

Sec. 3, lots 1, 2, 5, 6, 9, 10, 12, and 13;

Sec. 11, lots 1, 2, and 3.

The area described aggregates 628.99 acres, more or less, in Riverside County, California.

The closure is necessary because of public health and safety risks caused by the potential for encounter with unexploded ordinance and other hazardous materials located on the lands. The approximately 628.99 acres of public lands were until recently part of the Chocolate Mountain Aerial Gunnery Range and were used as part of a live bombing and training facility. The Department of the Navy is in the process of developing a response action plan to clean the contaminated parcels. Once the parcels are successfully cleaned, the BLM will reopen the lands to the public. All motor vehicles must remain on routes designated as open to vehicular use. The lands are closed to all forms of public entry, including dispersed camping, or other recreational activities on the approximately 628.99 acres.

The following persons are exempt from this order: Federal, State, and local officers and employees in the performance of their official duties; members of organized rescue or fire-fighting forces in the performance of their official duties; and persons with written authorization from the Bureau of Land Management.

Enforcement

Any person who violates this closure may be tried before a United States Magistrate and fined in accordance with 18 U.S.C. 3571, imprisoned for no more than 12 months under 43 U.S.C. 1733(a) and 43 CFR 8360.0-7, or both. In accordance with 43 CFR 8365.1-7, State or local officials may also impose penalties for violations of California law.

Authority: 43 CFR 8364.1(c)

Thomas Pogacnik,
Deputy State Director.

[FR Doc. 2015-32560 Filed 12-23-15; 8:45 am]

BILLING CODE 4310-40-P